DEPARTMENT OF THE INTERIOR

Fish and Wildlife Service

Upper Ouachita National Wildlife Refuge

AGENCY: Fish and Wildlife Service, Department of the Interior.

ACTION: Notice of intent to prepare a Comprehensive Conservation Plan and Environmental Assessment for Upper Ouachita National Wildlife Refuge in Union and Morehouse Parishes, Louisiana.

SUMMARY: This notice advises the public that the fish and Wildlife Service, Southeast Region, intends to gather information necessary to prepare a Comprehensive Conservation Plan and Environmental Assessment for Upper Ouachita National Wildlife Refuge, pursuant to the National Environmental Policy Act and its implementing regulations.

The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

The purpose of this notice is to achieve the following:

1. Advise other agencies and the public of our intentions, and

2. Obtain suggestions and information on the scope of issues to include in the environmental document.

DATES: An open house style meeting will be held during the scoping phase and public draft phase of the comprehensive conservation plan development process. Special mailings, newspaper articles, and other media announcements will be used to inform the public and state and local government agencies of the dates and opportunities for input throughout the planning process.

ADDRESSES: Comments and requests for more information regarding Upper Ouachita National Wildlife Refuge's planning process should be sent to Lindy Garner, Planning Biologist, North Louisiana National Wildlife Refuge Complex, 11372 Highway 143, Farmerville, Louisiana 71241; Telephone: (318) 726-4222; Fax: (318) 726-4667; Electronic-mail: northlarefuges@fws.gov. To ensure consideration, written comments must be received no later than August 29, 2005. Our practice is to make comments, including names and addresses of respondents, available for public review during regular business hours. Individual respondents may request that we withhold their home addresses from the record, which we will honor to the extent allowable by law.

SUPPLEMENTARY INFORMATION: Upper Ouachita National Wildlife Refuge was established in November 1978. The purposes of the refuge are “for use as an inviolate sanctuary, or for any other management purpose, for migratory birds” (Migratory Bird Conservation Act, 16 U.S.C. 715d); “* * * the conservation of the wetlands of the nation in order to maintain the public benefits they provide and to help fulfill international obligations contained in various migratory bird treaties and conventions. * * *” (16 U.S.C. 3901(b)).

Upper Ouachita Refuge is located in northeastern Louisiana. The northern boundary lies on the Louisiana-Arkansas State line. The refuge borders both sides of the Ouachita River for 13.7 miles and extends 3.3 miles to the east and 13 miles to the west. The refuge extends approximately 20 miles in a north-south direction, and its widest east-west dimension is approximately 16 miles. The southernmost point on the refuge is approximately 20 miles north of Monroe, Louisiana. The refuge lies within the Ouachita River Basin, which encompasses much of southwest Arkansas and northeast Louisiana.

The refuge consists of 4,540 acres of pine and pine/hardwood mix, 19,767 acres of bottomland hardwoods, 2,000 acres of shrub-scrub, 1,182 acres of moist soil, 2,540 acres of agricultural fields, 9,236 acres of reforested bottomlands, 474 acres of fallow agricultural fields, and 2,907 acres of open water. Wildlife species found on the refuge are typical of forested wetlands, moist soils, early successional forests, and upland hardwood/pine habitats. The refuge provides habitat for thousands of wintering ducks and geese and year-round habitat for nesting wood ducks. Although no large rookeries are located on the refuge, thousands of wading and water birds, such as white ibis, herons, egrets, wood storks, cormorants, and anhingas, forage in the sloughs, bayous, and Mollicy Unit. Many neotropical migratory birds breed on the refuge while other species use the refuge during migration, especially along the Ouachita River. Resident game species include fox and gray squirrels, rabbits, and deer. Furbearers present include muskrat, nutria, mink, river otter, beaver, red and gray fox, and racoon.

Three threatened and endangered species utilize the refuge. Currently, there is one active group of the endangered red-cockaded woodpecker on the refuge. Threatened Louisiana black bear have become more common on the refuge recently. Many threatened bald eagles are seen during the year, mainly winter, on the refuge. Bald eagles have also begun to nest successfully on the refuge within the last three years.

Hunting and fishing opportunities are permitted on most areas of the refuge, and is open year-round for wildlife observation, nature photography, and hiking.

The Service will conduct a comprehensive conservation planning process that will provide opportunity for State and local governments, agencies, organizations, and the public to participate in issue scoping and public comment. Comments received by the Planning Team will be used as part of the planning process.

Authority: This notice is published under the authority of the National Wildlife Refuge System Improvement Act of 1997, Public Law 105-57.

Dated: June 17, 2005.
Cynthia K. Dohner,
Acting Regional Director.

[FR Doc. 05-13730 Filed 7-12-05; 8:45 am]

BILLING CODE 4310-55-M